DEPARTMENT OF TRANSPORTATION

Surface Transportation Board

[STB Finance Docket No. 34836]

Arizona Eastern Railway, Inc.—Construction Exemption—in Graham County, AZ

AGENCY: Surface Transportation Board.

ACTION: Notice of exemption.

SUMMARY: The Board grants an exemption, under 49 U.S.C. 10502, from the prior approval requirements of 49 U.S.C. 10901 for Arizona Eastern Railway, Inc. (AZER) to construct a 12.1-mile rail line in Graham County, AZ, beginning at milepost 1133.5 at Safford, AZ, where it would connect with AZER's existing line and proceed 12.1 miles across the Gila River to the Safford Regional Airport and the Freeport-McMoRan, Inc. Dos Pobres Mine in Safford.

DATES: The exemption will be effective on July 15, 2009. Petitions to reopen must be filed by July 6, 2009.

ADDRESSES: An original and 10 copies of all pleadings, referring to STB Finance Docket No. 34836, must be filed with the Surface Transportation Board, 395 E Street, SW., Washington, DC 20423-0001. In addition, one copy of all pleadings must be served on petitioner's representative: John D. Heffner, John D. Heffner, PLLC, 1920 N Street, NW., Suite 800, Washington, DC 20036.

FOR FURTHER INFORMATION CONTACT: Melissa Ziembicki, (202) 245-0386. Assistance for the hearing impaired is available through the Federal Information Relay Service (FIRS) at 1-800-877-8339.

SUPPLEMENTARY INFORMATION: Additional information is contained in the Board's decision. Board decisions and notices are available on our Web site at http://www.stb.dot.gov.

Decided: June 12, 2009.
By the Board, Acting Chairman Mulvey and Vice Chairman Nottingham.
Kulunie L. Cannon,
Clearance Clerk.

[FR Doc. E9-14317 Filed 6-17-09; 8:45 am]

BILLING CODE 4915-01-P